DEPARTMENT OF THE INTERIOR

Bureau of Land Management

[UT-070-1610-DO]

Notice of Intent to Prepare a Resource Management Plan (RMP) and Environmental Impact Statement (EIS) for the Price Field Office

AGENCY: Bureau of Land Management, Interior.

SUMMARY: Notice is hereby given that the Bureau of Land Management (BLM), Price Field Office, Utah, is initiating a planning effort to prepare the Price Field Office Resource Management Plan (RMP). This planning effort involves preparation of an Environmental Impact Statement (EIS). Upon completion, the Price Field Office RMP will replace the existing Price River Management Framework Plan (MFP) and San Rafael RMP. The Price Field Office RMP will establish land use management policy for multiple resource uses on approximately 2.5 million acres of public land and 2.8 million acres of federal mineral resources in the planning area. Sections 201 and 202 of the Federal Land Policy and Management Act of 1976 (FLPMA, 43 U.S.C. 1711), the National Environmental Policy Act (NEPA) and the regulations in 43 CFR 1600 direct this planning effort. The new RMP is being prepared through coordination with other federal, state, and local agencies, and affected public land users.

DATES: The BLM can best utilize public input if comments are submitted pertaining to land use issues and values within 30 days of this notice. Public meetings are tentatively scheduled for late 2001 or early 2002 in Price, Castle Dale, and Green River, Utah. Specific dates and locations of all scoping meetings will be published in the local newspapers at least 15 days before the meetings.

ADDRESSES: If you wish to comment on potential issues or planning criteria, need additional information, or request to be put on our mailing list, you may do so by notifying the Price Field Office, Bureau of Land Management, Attn: Richard Manus, 125 South, 600 West, Price, Utah 84501.

Comments, including names and addresses of respondents, will be available for public review at the BLM office listed above during regular business hours. If you wish to withhold your name and/or address from public review or from disclosure under the Freedom of Information Act, you must state this prominently at the beginning of your written comments. Such requests will be honored to the extent allowed by law. We will not, however, consider anonymous comments. All submissions from organizations or businesses, and from individuals identifying themselves as representatives or officials of organizations or businesses, will be made available for public inspection in their entirety.

FOR FURTHER INFORMATION CONTACT: Richard Manus, Field Office Manager or Floyd Johnson, Supervisory Planning Coordinator, Price Field Office, Price Utah, (435) 636-3600.

SUPPLEMENTARY INFORMATION: The planning area will include all of the public land and federal mineral ownership managed by the Price Field Office in Carbon and Emery Counties in eastern Utah. The planning area will encompass the public lands currently managed under the Price River MFP and the San Rafael RMP. This area includes approximately 2.5 million acres of BLM administered surface and 2.8 million acres of federal minerals under federal, state, and private surface in the two county area. The BLM will also include the recently acquired lands west of the Green River that were previously part of the Naval Oil Shale Reserve #2 (NOSR2) including a 1/4 mile scenic easement on the east side of the Green River (approximately 6,500 acres.)

Preliminary issues that could be addressed during development of the Price Field Office RMP include, but are not limited to, the following: (1) Identification and management of summer and winter ranges for mule deer and elk; (2) forage competition between wildlife, wild horses and burros, and livestock; (3) the cumulative effect of land uses and human activities on threatened, endangered or sensitive species and their habitats; (4) management of Off Highway Vehicles (OHVs); (5) revision of Reasonable Foreseeable Development (RFD) scenarios for oil and gas development; (6) concerns about water and air quality; (7) management of cultural and pale ontological resources including the Cleveland-Lloyd Dinosaur Quarry; (8) fire management opportunities and potential effects on vegetative communities; (9) potential establishment of new Areas of Critical Environmental Concern (ACECs); (10) determinations of wild and scenic river eligibility, suitability, and tentative classifications (wild, scenic, or recreational); and (11) potential establishment of Wilderness Study Areas (WSAs). These preliminary issues are not final and may be added to and refined through the public participation process. As part of the land use planning process, the FLPMA mandates that BLM give priority to the designation and protection of ACECs when developing and revising land use plans. As part of the Price Field Office RMP planning effort, BLM will determine what areas, if any, should be designated as ACECs. As a result of a previous planning effort for the San Rafael RMP, 13 nominations have already been recorded, evaluated, and designated as ACECs. It is proposed that these areas be brought forward into the Price Field Office RMP. In addition, BLM is requesting additional nominations for areas that the public may see as being appropriately managed as ACECs.

Public nominations are also being sought for those rivers which may be eligible for inclusion into the National Wild and Scenic River System. In order to be considered, the body of water must be free flowing and contain at least one outstandingly remarkable value. The river can be any size and must be existing or flowing in a natural condition without major modification. All nominations should be accompanied by detailed maps, descriptions of the river segment, and rivers related values. Rivers will also be tentatively classified as wild, scenic, or recreational. An interdisciplinary team in coordination with planning partners will make preliminary determinations as to eligibility and classification of river segments. These preliminary determinations will be made available for public review prior to issuance of the Draft RMP/Draft EIS.

Preliminary Planning Criteria that have been identified to guide resolution of the issues that will be considered in the RMP are as follows: (1) The plan will recognize the existence of valid existing rights, (2) Lands covered in the RMP will be public lands, which include split estate lands, managed by BLM. Decisions in the RMP will be made only on lands managed by BLM, (3) The BLM will use a collaborative and multi-jurisdictional approach, where possible, to jointly determine the desired future condition of public lands, (4) The BLM will make all possible attempts to ensure that its management prescriptions and planning actions are as complimentary as possible to other planning jurisdictions, within the boundaries described by law and policy, (5) The BLM will consider the management prescriptions on adjoining lands to minimize inconsistent management. To the extent possible, BLM will coordinate inventories, planning, and management programs with other federal, state, tribal, and local governments and agencies, (6) Management prescriptions will focus on the relative values of resources and not necessarily the combination of uses that will give the greatest economic return or economic output, and (7) To the extent possible, the BLM will use current scientific information, research, new technologies and the results of resource assessments, monitoring and coordination to determine appropriate local, and regional management strategies that will enhance or restore impaired ecosystems.

Complete records of all phases of the planning process will be available for public review at the Price Field Office throughout this planning effort.

This notice announces the beginning of scoping. The Price Field Office is seeking public involvement in the earliest possible stages of this planning endeavor to enhance collaboration. If you have information or concerns you would like to share, including ideas or opportunities that could enhance data collection, inventories, or formulation of issues that could be addressed in the plan, please submit them to the above address.

Alternatives will be developed and analyzed to resolve the issues that are identified during the scoping process. A Draft RMP/Draft EIS will be published and made available for public review.

Dated: September 6, 2001.
Robert A. Bennett,
Acting State Director.

[FR Doc. 01-27922 Filed 11-6-01; 8:45 am]

BILLING CODE 4310-$$-P